DEPARTMENT OF HOUSING AND URBAN DEVELOPMENT

[Docket No. FR-7050-N-65]

30-Day Notice of Proposed Information Collection: American Housing Survey; OMB Control No.: 2528-0017

AGENCY: Office of Policy Development and Research, Chief Data Officer, HUD.

ACTION: Notice.

SUMMARY: The proposed information collection requirement described below will be submitted to the Office of Management and Budget (OMB) for review, as required by the Paperwork Reduction Act. The Department is soliciting public comments on the subject proposal.

DATES: Comments Due Date: January 23, 2023.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, REE, Department of Housing and Urban Development, 451 7th Street SW, Washington, DC 20410; email her at Anna.P.Guido@hud.gov or telephone 202-402-5535. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD has submitted to OMB a request for approval of the information collection described in Section A. The Federal Register notice that solicited public comment on the information collection for a period of 60 days was published on September 19, 2022 at 87 FR 57215.

A. Overview of Information Collection

Title of Information Collection American Housing Survey.

OMB Approval Number: 2528-0017.

Type of Request: Revision of a currently approved collection.

Form Number: None.

Description of the need for the information and proposed use:

The purpose of the American Housing Survey (AHS) is to supply the public with detailed and timely information about housing quality, housing costs, and neighborhood assets, in support of effective housing policy, programs, and markets. Title 12, United States Code, Sections 1701Z-1, 1701Z-2(g), and 1710Z-10a mandates the collection of this information.

Like the previous surveys, the 2023 AHS will collect “core” data on subjects, such as the amount and types of changes in the housing inventory, the physical condition of the housing inventory, the characteristics of the occupants, housing costs for owners and renters, mortgages, the persons eligible for and beneficiaries of assisted housing, remodeling and repair frequency, reasons for moving, the number and characteristics of vacancies, and characteristics of resident's neighborhood. In addition to the “core” data, HUD plans to collect supplemental data on potential health and safety hazards in the home, housing insecurity, perceptions of urbanization, sexual orientation and gender identity, parent's country of birth, first-generation home ownership, housing characteristics that increase heat vulnerability, and experience and consequences of power outages.

In 2015, the AHS began a new longitudinal panel. The sample design has two components: an integrated longitudinal national sample, and an independent metropolitan areas longitudinal sample. The integrated longitudinal national sample includes three parts: (1) 36,610 national cases representative of the U.S. and 9 Census Divisions outside the top 15 metropolitan areas; (2) 12,068 HUD-assisted oversample cases; and (3) 48,273 sample cases of the top 15 metropolitan areas in the U.S. The total integrated longitudinal national sample for 2021 will consist of 96,951 housing units. In addition to the integrated national longitudinal sample, HUD plans to conduct 10 additional metropolitan area longitudinal samples, each with approximately 3,000 housing units (for a total 32,830 metropolitan area housing units). The 10 additional metropolitan area longitudinal samples were last surveyed in 2019.

To help reduce respondent burden on households in the longitudinal sample, the 2023 AHS will make use of dependent interviewing techniques, which will decrease the number of questions asked. Policy analysts, program managers, budget analysts, and Congressional staff use AHS data to advise executive and legislative branches about housing conditions and the suitability of public policy initiatives. Academic researchers and private organizations also use AHS data in efforts of specific interest and concern to their respective communities.

HUD needs the AHS data for the following two reasons:

1. With the data, policy analysts can monitor the interaction among housing needs, demand and supply, as well as changes in housing conditions and costs, to aid in the development of housing policies and the design of housing programs appropriate for different target groups, such as first-time home buyers and the elderly.

2. With the data, HUD can evaluate, monitor, and design HUD programs to improve efficiency and effectiveness.

Information collection | Number of respondents | Frequency of response | Responses per annum | Burden hour per response | Annual burden hours | Hourly cost per response | Annual cost
Occupied Interviews | 88,251 | 1 | 88,251 | .75 | 66,188 | $22 | $1,456,142
Vacant Interviews | 12,978 | 1 | 12,978 | .08 | 1,038 | 22 | 22,841
Non-interviews | 24,659 | 1 | 24,659 | .00 | 0 | 0 | 0
Ineligible | 3,893 | 1 | 3,893 | .00 | 0 | 0 | 0
Subtotal | 129,781 | 1 | 129,781 | .00 | 67,226 | 0 | 1,478,983
Reinterviews | 9,084 | 1 | 9,084 | .17 | 1,544 | 22 | 33,974
Total | 138,865 |  | 138,865 |  | 68,770 |  | 1,512,957

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Departmental PRA Clearance Officer, Office of the Chief Data Officer.

[FR Doc. 2022-27781 Filed 12-21-22; 8:45 am]

BILLING CODE 4210-67-P